DEPARTMENT OF TRANSPORTATION

Federal Aviation Administration

14 CFR Part 39

[Docket No. FAA-2018-0765; Product Identifier 2018-NM-105-AD; Amendment 39-19379; AD 2018-17-25]

RIN 2120-AA64

Airworthiness Directives; Airbus SAS Airplanes

AGENCY: Federal Aviation Administration (FAA), DOT.

ACTION: Final rule; request for comments.

SUMMARY: We are adopting a new airworthiness directive (AD) for all Airbus SAS Model A350-941 and -1041 airplanes. This AD was prompted by reports of uncommanded motion of the flight control actuator. This AD requires replacing certain rudder and elevator servocontrols with serviceable servocontrols. We are issuing this AD to address the unsafe condition on these products.

DATES: This AD becomes effective September 28, 2018.

The Director of the Federal Register approved the incorporation by reference of a certain publication listed in this AD as of September 28, 2018.

We must receive comments on this AD by October 29, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact Airbus SAS, Airworthiness Office—EAL, Rond-Point Emile Dewoitine No: 2, 31700 Blagnac Cedex, France; telephone +33 5 61 93 36 96; fax +33 5 61 93 45 80; email continued-airworthiness.a350@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2018-0765.

Examining the AD Docket

You may examine the AD docket on the internet at http://www.regulations.gov by searching for and locating Docket No. FAA-2018-0765; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Kathleen Arrigotti, Aerospace Engineer, International Section, Transport Standards Branch, FAA, 2200 South 216th St., Des Moines, WA 98198; telephone and fax 206-231-3218.

SUPPLEMENTARY INFORMATION:

Discussion

The European Aviation Safety Agency (EASA), which is the Technical Agent for the Member States of the European Union, has issued EASA AD 2018-0145R3, dated July 24, 2018 (referred to after this as the Mandatory Continuing Airworthiness Information, or “the MCAI”), to correct an unsafe condition for all Airbus SAS Model A350-941 and -1041 airplanes. The MCAI states:

Two occurrences were reported of flight control actuator uncommanded motion on Airbus A350 aeroplanes. Further investigations performed by the servocontrol manufacturer (MOOG Aircraft Group) revealed that both events were caused by foreign object debris blocking a receiver port inside the Electro Hydraulic Servo Valve (EHSV), which is a component fitted on the servocontrol. In both cases, materials found in the EHSV first stage were consistent with debris generated by rework activity during manufacturing process.

This condition, if not corrected, could lead to an uncommanded flight control actuator movement, or an unresponsive flight control actuator while in active mode, possibly resulting in reduced control of the aeroplane.

To address this potential unsafe condition, Airbus issued the AOT [Alert Operators Transmission A27P012-18], identifying the affected parts and providing instructions to remove the affected parts from service.

For the reasons described above, EASA issued AD 2018-0145 (later revised) to require replacement of the affected parts with serviceable parts.

Since EASA AD 2018-0145R2 was issued, it was determined that the information concerning the markings on a servocontrol after in-shop rework/modification (see Definitions, serviceable part) were not entirely correct. This [EASA] AD is revised accordingly to make the necessary correction.

You may examine the MCAI on the internet at http://www.regulations.gov by searching for and locating Docket No. FAA-2018-0765.

Related Service Information Under 1 CFR Part 51

Airbus SAS has issued Alert Operators Transmission A27P012-18, Rev 01, dated May 29, 2018, including Appendixes 1 through 6. This service information describes procedures for replacing affected servocontrols with serviceable servocontrols. This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Requirements of This AD

This AD requires accomplishing the actions specified in the service information described previously.

FAA's Determination of the Effective Date

An unsafe condition exists that requires the immediate adoption of this AD. The FAA has found that the risk to the flying public justifies waiving notice and comment prior to adoption of this rule because the unsafe condition could lead to uncommanded flight control actuator movement, or an unresponsive flight control actuator while in active mode, possibly resulting in reduced controllability of the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2018-0765; Product Identifier 2018-NM-105-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 11 airplanes of U.S. registry. We estimate the following costs to comply with this AD:

Estimated Costs for Required Actions
Labor cost | Parts cost | Cost per product | Cost on U.S. operators
Up to 15 work-hours × $85 per hour = $1,275 | Up to $548,876 | Up to $550,151 | Up to $6,051,661.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-17-25 Airbus SAS: Amendment 39-19379; Docket No. FAA-2018-0765; Product Identifier 2018-NM-105-AD.

(a) Effective Date

This AD becomes effective September 28, 2018.

(b) Affected ADs

None.

(c) Applicability

This AD applies to Airbus SAS Model A350-941 and -1041 airplanes, certificated in any category, all manufacturer serial numbers.

(d) Subject

Air Transport Association (ATA) of America Code 27, Flight Controls.

(e) Reason

This AD was prompted by reports of uncommanded motion of the flight control actuator. We are issuing this AD to address blocked receiver ports on certain servocontrols installed on the elevators and rudders. This condition, if not corrected, could lead to an uncommanded flight control actuator movement, or an unresponsive flight control actuator while in active mode, possibly resulting in reduced controllability of the airplane.

(f) Compliance

Comply with this AD within the compliance times specified, unless already done.

(g) Definitions

For the purposes of this AD the following definitions apply:

(1) Affected part: A servocontrol having a part number and serial number specified in Appendix 2 of Airbus Alert Operators Transmission (AOT) A27P012-18, Rev 01, dated May 2018.

(2) Serviceable part: A servocontrol having a part number and serial number not specified in Appendix 2 of Airbus Alert Operators Transmission (AOT) A27P012-18, Rev 01, dated May 2018; or an affected part that was reworked or modified in-shop and identified by “27-06” (rudder servocontrol) or “27-04” (elevator servocontrol) marked after the serial number of the servocontrol; or an affected part that has been modified on the airplane by replacing the servo module in accordance with the instructions of Airbus Alert Operators Transmission (AOT) A27P012-18, Rev 01, dated May 2018, including Appendixes 2 through 6.

(3) Groups: Group 1 airplanes have any affected part installed. Group 2 airplanes do not have any affected part installed.

(4) Flight hours: The flight hours indicated in table 1 to paragraphs (g)(4) and (h) of this AD are those accumulated by an affected part since its first installation on an airplane. In case these flight hours are unknown, the flight hours accumulated by the affected elevator or rudder since its first installation on an airplane apply.

Table 1 to Paragraphs (g)(4) and (h) of This AD—Servocontrols Replacement
Flight hours (FH) accumulated | Compliance time
Fewer than 1,200 FH | Before exceeding 1,200 FH, or within 30 days after the effective date of this AD, whichever occurs later.
1,200 FH or more | Within 9 months after the effective date of this AD.

(h) Replacement

For Group 1 airplanes: Within the applicable compliance time specified in table 1 to paragraphs (g)(4) and (h) of this AD, replace each affected part with a serviceable part, in accordance with the instructions in Airbus Alert Operators Transmission (AOT) A27P012-18, Rev 01, dated May 2018, including Appendixes 2 through 6.

(i) No Reporting Requirement

Although Airbus Alert Operators Transmission (AOT) A27P012-18, Rev 01, dated May 2018, specifies to submit certain information to the manufacturer and refers to Appendix 1 of Airbus Alert Operators Transmission (AOT) A27P012-18, Rev 01, dated May 2018, this AD does not include that requirement.

(j) Parts Installation Prohibition

For Group 1 and Group 2 airplanes: As of the effective date of this AD, no person may install on any airplane an affected part as defined in paragraph (g)(1) of this AD, unless it is a serviceable part as defined in paragraph (g)(2) of this AD.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA AD 2018-0145R3, dated July 24, 2018, for related information. This MCAI may be found in the AD docket on the internet at http://www.regulations.gov by searching for and locating Docket No. FAA-2018-0765.

(2) For more information about this AD, contact Kathleen Arrigotti, Aerospace Engineer, International Section, Transport Standards Branch, FAA, 2200 South 216th St., Des Moines, WA 98198; telephone and fax 206-231-3218.

(3) For service information identified in this AD, contact Airbus SAS, Airworthiness Office—EAL, Rond-Point Emile Dewoitine No: 2, 31700 Blagnac Cedex, France; telephone +33 5 61 93 36 96; fax +33 5 61 93 45 80; email continued-airworthiness.a350@airbus.com; internet http://www.airbus.com. You may view this service information at the FAA, Transport Standards Branch, 2200 South 216th St., Des Moines, WA. For information on the availability of this material at the FAA, call 206-231-3195.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A27P012-18, Rev 01, dated May 29, 2018, including Appendixes 1 through 6.

(ii) Reserved.

(3) For service information identified in this AD, contact Airbus SAS, Airworthiness Office—EAL, Rond-Point Emile Dewoitine No: 2, 31700 Blagnac Cedex, France; telephone +33 5 61 93 36 96; fax +33 5 61 93 45 80; email continued-airworthiness.a350@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on August 17, 2018.
Michael Kaszycki,
Acting Director, System Oversight Division, Aircraft Certification Service.

[FR Doc. 2018-19744 Filed 9-12-18; 8:45 am]

BILLING CODE 4910-13-P